DEPARTMENT OF COMMERCE

National Oceanic and Atmospheric Administration

[I.D. 121801A]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Enforcement Committee and Advisory Panel, Red Crab Advisory Panel and Oversight Committee and Monkfish Oversight Committee in January, 2002 to consider actions affecting New England fisheries in the exclusive economic zone (EEZ). Recommendations from these groups will be brought to the full Council for formal consideration and action, if appropriate.

DATES: The meetings will be held between January 8, 2002 and January 14, 2002. See SUPPLEMENTARY INFORMATION for specific dates and times.

ADDRESSES: The meetings will be held in Newburyport, MA Mansfield, MA and Portsmouth, NH. See SUPPLEMENTARY INFORMATION for specific locations.

Council address: New England Fishery Management Council, 50 Water Street, Mill 2, Newburyport, MA 01950.

FOR FURTHER INFORMATION CONTACT: Paul J. Howard, Executive Director, New England Fishery Management Council; (978) 465-0492.

SUPPLEMENTARY INFORMATION:

Meeting Dates and Agendas

Tuesday, January 8, 2002 at 9:30 a.m.—Enforcement Committee and Advisory Panel Meeting.

Location: New England Fishery Management Council Office, 50 Water Street, Mill #2, Newburyport, MA 01950; (978) 465-0492.

The Committee will review enforcement policies and they will discuss policies as they pertain to Scallop Amendment 10 and Monkfish annual adjustments.

Tuesday, January 8, 2002 at 9:30 a.m.—Red Crab Advisory Panel Meeting.

Location: Rossi's Restaurant, 50 Water Street, Mill #2, Newburyport, MA 01950; telephone: (978) 465-0492.

The Advisory Panel will meet to discuss the Council's draft Red Crab Fishery Management Plan (FMP) and proposed management measures. The Advisors will develop recommendations on the final management measures for consideration by the Council's Red Crab Committee. Issues to be discussed include: qualification criteria for a controlled access program for the directed red crab fishery; a potential days-at-sea program for the directed fishery; a potential trip limit for the directed fishery; the establishment of the fishing year for management purposes; and other potential management measures to be implemented in the FMP.

Wednesday, January 9, 2002 at 9:30 a.m.—Red Crab Oversight Committee Meeting.

Location: Holiday Inn, 31 Hampshire Street, Mansfield, MA 02048; telephone: (508) 339-2200.

The Oversight Committee will meet to discuss the Council's draft Red Crab FMP and draft Environmental Impact Statement (EIS) and the proposed management measures. The Committee will consider comments received by the Council at public hearings on the draft EIS and during the review period. The Committee will develop recommendations on the final management measures for consideration by the Council. Issues to be discussed include: a controlled access program for the directed red crab fishery; a potential days-at-sea program for the directed fishery; a potential trip limit for the directed fishery; the establishment of the fishing year for management purposes; and other potential management measures to be implemented in the FMP.

Monday, January 14, 2002 at 10:00 a.m.—Monkfish Oversight Committee Meeting.

Location: Courtyard by Marriott, 1000 Market Street, Portsmouth, NH 03801; telephone: (603) 436-2121.

The Committee will review the analysis of options under consideration in Framework 1 to the Monkfish FMP, and make a recommendation to the Council for measures to be submitted to NMFS for the fishing year starting May 1, 2002. Framework 1 contains alternatives to the default measures for Year 4 of the rebuilding program contained in the FMP. Those default measures would eliminate the directed monkfish fishery. The Council is considering various alternative measures based on trip limit and Days-at-Sea (DAS) adjustments to either achieve the same landings as in Year 2 (fishing year 2000-01), the preferred alternative, or achieve the Year 2 and 3 total allowable catch targets (TACs), the non-preferred alternative. Time permitting, the Committee will take public scoping comments on Amendment 2 to the Monkfish FMP.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: December 18, 2001.
Richard W. Surdi,
Acting Director, Office of Sustainable Fisheries, National Marine Fisheries Service.

[FR Doc. 01-31545 Filed 12-20-01; 8:45 am]

BILLING CODE 3510-22-S